DEPARTMENT OF COMMERCE

International Trade Administration

[C-570-971]

Multilayered Wood Flooring From the People's Republic of China: Correction to Final Results and Partial Rescission of Countervailing Duty Administrative Review; 2012

AGENCY: Enforcement and Compliance, International Trade Administration, Department of Commerce.

DATES: Effective Date: August 19, 2015.

SUMMARY: On July 14, 2015, the Department of Commerce (Department) published in the Federal Register its notice of final results and partial rescission for the countervailing duty administrative review of multilayered wood flooring (wood flooring) from the People's Republic of China (PRC) for the period of review January 1, 2012, through December 31, 2012.¹ The net countervailable subsidy rate for one producer under review, Linyi Youyou Wood Co., Ltd., an affiliate of Shanghai Lizhong Wood Products Co., Ltd. (also known as The Lizhong Wood Industry Limited Company of Shanghai), was inadvertently omitted from the notice. Therefore, this company should be included in the listing of producers and/or exporters under review and its net subsidy rate is as follows:

¹ See Multilayered Wood Flooring from the People's Republic of China: Final Results of Countervailing Duty Administrative Review and Partial Rescission; 2012, 80 FR 41007 (July 14, 2015) (Final Results).

Producer/Exporter | Net subsidy rate
Shanghai Lizhong Wood Products Co., Ltd. (also known as The Lizhong Wood Industry Limited Company of Shanghai); Linyi Youyou Wood Co., Ltd. | 0.99

No other changes have been made to the Final Results.

Assessment Rates

Consistent with 19 CFR 351.212(b)(2), we intend to issue assessment instructions to the U.S. Customs and Border Protection (CBP) fifteen days after the date of publication of these final results. We will instruct CBP to assess countervailing duties on period of review entries in the amounts shown above.

Cash Deposit Requirements

In accordance with section 751(a)(1) of the Act, we intend to instruct CBP to collect cash deposits of estimated countervailing duties in the amounts shown above on shipments of subject merchandise entered, or withdrawn from warehouse, for consumption on or after the date of publication of the final results of this review. For all non-reviewed companies (except Zhejiang Layo Wood Industry Co., Ltd., its affiliate Jiaxing Brilliant Import & Export Co., Ltd., and Zhejiang Yuhua Timber Co., Ltd., which are excluded from the Order),² we will instruct CBP to continue to collect cash deposits at the most recent company-specific or all-others rate applicable to the company. Accordingly, the cash deposit rates that will be applied to companies covered by the Amended Order,³ but not examined in this review, are those established in the most recently completed segment of the proceeding for each company. These cash deposit requirements, when imposed, shall remain in effect until further notice.

² See Order, 76 FR at 76694.

³ See Multilayered Wood Flooring from the People's Republic of China: Notice of Court Decision Not in Harmony with Final Determination of Countervailing Duty Investigation and Notice of Amended Countervailing Duty Order, 77 FR 71167 (November 29, 2012).

This corrected notice is issued and published in accordance with sections 751(a)(1) and 777(i)(1) of the Act and 19 CFR 351.213.

Dated: August 13, 2015.
Ronald K. Lorentzen,
Acting Assistant Secretary for Enforcement and Compliance.

[FR Doc. 2015-20494 Filed 8-18-15; 8:45 am]

BILLING CODE 3510-DS-P